FEDERAL DEPOSIT INSURANCE CORPORATION

Agency Information Collection Activities: Proposed Collection; Comment Request

AGENCY: Federal Deposit Insurance Corporation (FDIC).

ACTION: Notice and request for comment.

SUMMARY: The FDIC, as part of its continuing effort to reduce paperwork and respondent burden, invites the general public and other Federal agencies to take this opportunity to comment on proposed and/or continuing information collections, as required by the Paperwork Reduction Act of 1995 (44 U.S.C. chapter 35). Currently, the FDIC is soliciting comments concerning the following collections of information titled: (1) Application for a Bank to Establish a Branch or Move Its Main Office or Branch; (2) Application for Consent to Reduce or Retire Capital; (3) Activities and Investments of Savings Associations, and (4) Application for Consent to Exercise Trust Powers.

DATES: Comments must be submitted on or before October 17, 2000.

ADDRESSES: Interested parties are invited to submit written comments to Tamara R. Manly, Management Analyst (Regulatory Analysis), (202) 898-7453, Office of the Executive Secretary, Room F-4058, Attention: Comments/OES, Federal Deposit Insurance Corporation, 550 17th Street NW., Washington, DC 20429. All comments should refer to the OMB control number. Comments may be hand-delivered to the guard station at the rear of the 17th Street Building (located on F Street), on business days between 7:00 a.m. and 5:00 p.m. [FAX number (202) 898-3838; Internet address: comments @ fdic.gov].

A copy of the comments may also be submitted to the OMB desk officer for the FDIC: Alexander Hunt, Office of Information and Regulatory Affairs, Office of Management and Budget, New Executive Office Building, Room 3208, Washington, DC 20503.

FOR FURTHER INFORMATION CONTACT: Tamara R. Manly, at the address identified above.

SUPPLEMENTARY INFORMATION:

Proposal To Renew the Following Currently Approved Collections of Information

1. Title: Application for a Bank to Establish a Branch or Move Its Main Office or Branch.

OMB Number: 3064-0070.

Frequency of Response: On occasion.

Affected Public: Insured state nonmember banks.

Estimated Number of Respondents: 1,650.

Estimated Time per Response: 5 hours.

Total Annual Burden: 8,250 hours.

General Description of Collection: Section 18(d) of the Federal Deposit Insurance Act (12 USC 1828(d)) provides that no state nonmember insured bank shall establish and operate any new domestic branch or move its main office or any such branch from one location to another without the prior written consent of the FDIC.

2. Title: Application for Consent to Reduce or Retire Capital.

OMB Number: 3064-0079.

Frequency of Response: On occasion.

Affected Public: Insured state nonmember banks.

Estimated Number of Respondents: 100.

Estimated Time per Response: 1 hour.

Total Annual Burden: 100 hours.

General Description of Collection: This collection requires insured state nonmember banks that propose to change their capital structure to submit an application containing information about the proposed change in order to obtain FDIC's consent to reduce or retire capital. The FDIC evaluates the information contained in the letter application in relation to statutory considerations and makes a decision to grant or to withhold consent.

3. Title: Activities and Investments of Savings Associations.

OMB Number: 3064-0104.

Frequency of Response: On occasion.

Affected Public: Savings associations.

Estimated Number of Respondents: 20.

Estimated Time per Response: 5 hours.

Total Annual Burden: 100 hours.

General Description of Collection: The collection of information identifies the information that state savings associations and/or their subsidiaries must submit to obtain the FDIC's approval or objection to engage in certain activities.

4. Title: Application for Consent to Exercise Trust Powers.

OMB Number: 3064-0025.

Form Number: 6200/09.

Frequency of Response: On occasion.

Affected Public: All financial institutions.

Estimated Number of Respondents: 43.

Estimated Time per Response: 35 applications—8 hours; 8 applications—24 hours.

Total Annual burden: 472 hours.

General Description of Collection: Insured state nonmember banks submit applications to FDIC for consent to exercise trust powers. Applications are evaluated by FDIC to verify qualifications of bank management to administer a trust department and to ensure that bank's financial condition will not be jeopardized as a result of trust operations.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the information collection on respondents, including through the use of automated collection techniques or other forms of information technology.

At the end of the comment period, the comments and recommendations received will be analyzed to determine the extent to which the collection should be modified prior to submission to OMB for review and approval. Comments submitted in response to this notice also will be summarized or included in the FDIC's requests to OMB for renewal of these collections. All comments will become a matter of public record.

Dated at Washington, D.C., this 11th day of August, 2000.
Federal Deposit Insurance Corporation.
James D. LaPierre,
Deputy Executive Secretary.

[FR Doc. 00-21001 Filed 8-17-00; 8:45 am]

BILLING CODE 6714-01-U